RAILROAD RETIREMENT BOARD

Agency Forms Submitted for OMB Review, Request for Comments

SUMMARY: In accordance with the Paperwork Reduction Act of 1995 (44 U.S.C. Chapter 35), the Railroad Retirement Board (RRB) is forwarding an Information Collection Request (ICR) to the Office of Information and Regulatory Affairs (OIRA), Office of Management and Budget (OMB). Our ICR describes the information we seek to collect from the public. Review and approval by OIRA ensures that we impose appropriate paperwork burdens.

The RRB invites comments on the proposed collection of information to determine (1) the practical utility of the collection; (2) the accuracy of the estimated burden of the collection; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

1. Title and purpose of information collection: Application and Claim for Unemployment Benefits and Employment Service; OMB 3220-0022.

Section 2 of the Railroad Unemployment Insurance Act (RUIA), provides unemployment benefits for qualified railroad employees. These benefits are generally payable for each day of unemployment in excess of four during a registration period (normally a period of 14 days).

Section 12 of the RUIA provides that the RRB establish, maintain and operate free employment facilities directed toward the reemployment of railroad employees. The procedures for applying for the unemployment benefits and employment service and for registering and claiming the benefits are prescribed in 20 CFR 325.

The RRB utilizes the following forms to collect the information necessary to pay unemployment benefits: Form UI-1 (or its Internet equivalent, Form UI-1 (Internet)), Application for Unemployment Benefits and Employment Service, is completed by a claimant for unemployment benefits once in a benefit year, at the time of first registration. Completion of Form UI-1 or UI-1 (Internet) also registers an unemployment claimant for the RRB's employment service.

The RRB also utilizes Form UI-3, (or its Internet equivalent Form UI-3 (Internet)) Claim for Unemployment Benefits for use in claiming unemployment benefits for days of unemployment in a particular registration period, normally a period of 14 days.

Completion of Forms UI-1, UI-1 (Internet), UI-3 and UI-3 (Internet) is required to obtain or retain benefits. The number of responses required of each claimant varies, depending on their period of unemployment.

Previous Requests for Comments: The RRB has already published the initial 60-day notice (79 FR 415 on January 3, 2014) required by 44 U.S.C. 3506(c)(2). That request elicited no comments.

Information Collection Request (ICR)

Title: Application and Claim for Unemployment Benefits and Employment Service.

OMB Control Number: 3220-0022.

Forms submitted: UI-1, UI-1 (Internet), UI-3, UI-3 (Internet).

Type of request: Extension without change of a currently approved collection.

Affected public: Individuals or Households.

Abstract: Under Section 2 of the Railroad Unemployment Insurance Act, unemployment benefits are provided for qualified railroad employees. The collection obtains the information needed to determine the eligibility to and amount of such benefits for railroad employees.

Changes proposed: The RRB proposes no changes to the forms in the collection.

The burden estimate for the ICR is as follows:

Form No. | Annual responses | Time (minutes) | Burden (hours)
UI-1 | 6,817 | 10 | 1,136
UI-1 (Internet) | 3,490 | 10 | 582
UI-3 | 51,996 | 6 | 5,200
UI-3 (Internet) | 36,286 | 6 | 3,629
Total | 98,589 |  | 10,547

2. Title and purpose of information collection: Railroad Unemployment Insurance Act Applications; OMB 3220-0039.

Under Section 2 of the Railroad Unemployment Insurance Act (RUIA), sickness benefits are payable to qualified railroad employees who are unable to work because of illness or injury. In addition, sickness benefits are payable to qualified female employees if they are unable to work, or if working would be injurious, because of pregnancy, miscarriage, or childbirth. Under Section 1(k) of the RUIA, a statement of sickness for the days the employee was sick and not able to work, is to be filed with the RRB within a 10-day period from the first day claimed as a day of sickness. The RRB's authority for requesting supplemental medical information is Sections 12(i) and 12(n) of the RUIA. The procedures for claiming sickness benefits and for the RRB to obtain supplemental medical information needed to determine a claimant's eligibility for such benefits are prescribed in 20 CFR Part 335.

The forms currently used by the RRB to obtain information needed to determine eligibility for and the amount of sickness benefits due a claimant are as follows: Form SI-1A, Application for Sickness Benefits; Form SI-1b, Statement of Sickness; Form SI-3, Claim for Sickness Benefits; Form SI-7, Supplemental Doctor's Statement; Form SI-8, Verification of Medical Information; Form ID-7H, Non-Entitlement to Sickness Benefits and Information on Unemployment Benefits; Form ID-11A, Notice of Late Filing; and Form ID-11B, Notice of Insufficient Medical and Late Filing. Completion is required to obtain or retain benefits. One response is requested of each respondent.

Previous Requests for Comments: The RRB has already published the initial 60-day notice (78 57421 on September 18, 2013) required by 44 U.S.C. 3506(c)(2). That request elicited no comments.

Information Collection Request (ICR)

Title: Railroad Unemployment Insurance Act Applications.

OMB Control Number: 3220-0039.

Form(s) submitted: SI-1a, SI-1b, SI-3, SI-3 (Internet), SI-7, SI-8, ID-7H, ID-11A and ID-11B.

Type of request: Revision of a currently approved collection.

Affected public: Individuals or Households.

Abstract: Under Section 2 of the Railroad Unemployment Insurance Act, sickness benefits are payable to qualified railroad employees who are unable to work because of illness or injury. The collection obtains information from railroad employees and physicians needed to determine eligibility to and the amount of such benefits.

Changes proposed: The RRB proposes to delete Forms ID-7H and ID-11B from the information collection due to less than ten responses per year.

The burden estimate for the ICR is as follows:

Form No. | Annual responses | Time (minutes) | Burden (hours)
SI-1a (Employee) | 16,000 | 10 | 2,667
SI-1b (Doctor) | 16,000 | 8 | 2,133
SI-3 (Manual) | 126,490 | 5 | 10,541
SI-3 (Internet) | 33,443 | 5 | 2,787
SI-7 | 21,472 | 8 | 2,863
SI-8 | 26 | 5 | 2
ID-11A | 518 | 4 | 35
Total | 213,949 |  | 21,028

3. Title and purpose of information collection: Public Service Pension Questionnaires; OMB 3220-0136.

Public Law 95-216 amended the Social Security Act of 1977 by providing, in part, that spouse or survivor benefits may be reduced when the beneficiary is in receipt of a pension based on employment with a Federal, State, or local governmental unit. Initially, the reduction was equal to the full amount of the government pension.

Public Law 98-21 changed the reduction to two-thirds of the amount of the government pension. Public Law 108-203 amended the Social Security Act by changing the requirement for exemption to public service offset, that Federal Insurance Contributions Act (FICA) taxes be deducted from the public service wages for the last 60 months of public service employment, rather than just the last day of public service employment.

Sections 4(a)(1) and 4(f)(1) of the Railroad Retirement Act (RRA) provides that a spouse or survivor annuity should be equal in amount to what the annuitant would receive if entitled to a like benefit from the Social Security Administration. Therefore, the public service pension (PSP) provisions apply to RRA annuities. RRB regulations pertaining to the collection of evidence relating to public service pensions or worker's compensation paid to spouse or survivor applicants or annuitants are found in 20 CFR 219.64c.

The RRB utilizes Form G-208, Public Service Pension Questionnaire, and Form G-212, Public Service Monitoring Questionnaire, to obtain information used to determine whether an annuity reduction is in order. Completion of the forms is voluntary. However, failure to complete the forms could result in the nonpayment of benefits. One response is requested of each respondent.

Previous Requests for Comments: The RRB has already published the initial 60-day notice (79 FR 676 on January 6, 2014) required by 44 U.S.C. 3506(c)(2). That request elicited no comments.

Information Collection Request (ICR)

Title: Public Service Pension Questionnaires.

OMB Control Number: 3220-0136.

Forms submitted: G-208 and G-212.

Type of request: Extension without change of a currently approved collection.

Affected public: Individuals or Households.

Abstract: A spouse or survivor annuity under the Railroad Retirement Act may be subjected to a reduction for a public service pension. The questionnaires obtain information needed to determine if the reduction applies and the amount of such reduction.

Changes proposed: The RRB proposes no changes to the forms in the collection.

The burden estimate for the ICR is as follows:

Form No. | Annual responses | Time (minutes) | Burden (hours)
G-208 | 70 | 16 | 19.0
G-212 | 1,100 | 15 | 275.0
Total | 1,170 |  | 294.0

4. Title and purpose of information collection: Representative Payee Monitoring; OMB 3220-0151.

Under Section 12 of the Railroad Retirement Act (RRA), the RRB may pay annuity benefits to a representative payee when an employee, spouse, or survivor annuitant is incompetent or a minor. The RRB is responsible for determining if direct payment to an annuitant or a representative payee would best serve the annuitant's best interest. The accountability requirements authorizing the RRB to conduct periodic monitoring of representative payees, including a written accounting of benefit payments received, are prescribed in 20 CFR 266.7. The RRB utilizes the following forms to conduct its representative payee monitoring program.

Form G-99a, Representative Payee Report, is used to obtain information needed to determine whether the benefit payments certified to the representative payee have been used for the annuitant's current maintenance and personal needs and whether the representative payee continues to be concerned with the annuitant's welfare. RRB Form G-99c, Representative Payee Evaluation Report, is used to obtain more detailed information from a representative payee who fails to complete and return Form G-99a or in situations when the returned Form G-99a indicates the possible misuse of funds by the representative payee. Form G-99c contains specific questions concerning the representative payee's performance and is used by the RRB to determine whether or not the representative payee should continue in that capacity. Completion of the forms in this collection is required to retain benefits.

Previous Requests for Comments: The RRB has already published the initial 60-day notice (79 FR 416 on January 3, 2014) required by 44 U.S.C. 3506(c)(2). That request elicited no comments.

Information Collection Request (ICR)

Title: Representative Payee Monitoring.

OMB Control Number: 3220-0151.

Forms submitted: G-99a and G-99c.

Type of request: Revision of a currently approved collection.

Affected public: Individuals or Households.

Abstract: Under Section 12(a) of the Railroad Retirement Act, the RRB is authorized to select, make payments to, and conduct transactions with an annuitant's relative or some other person willing to act on behalf of the annuitant as representative payee. The collection obtains information needed to determine if a representative payee is handling benefit payments in the best interest of the annuitant.

Changes proposed: Consistent with 20 CFR 266.4(g), which states that “the RRB may consider whether a representative payee has ever been convicted of a felony or a misdemeanor under the statutes of the Board or the Social Security Act, or convicted of a felony under any other Federal or state law” the RRB proposes the deletion of the limiting phrase “within the past 15 years” from Forms G-99a and G-99c. Other minor editorial changes are also proposed to both forms.

The burden estimate for the ICR is as follows:

Form No. | Annual responses | Time (minutes) | Burden (hours)
G-99a (legal and all other, excepting parent for child) | 5,400 | 18 | 1,620
G-99c (Parts I and II) | 300 | 24 | 120
G-99c (Parts I, II, and III) | 120 | 31 | 62
Total | 5,820 |  | 1,802

5. Title and purpose of information collection: Report of Medicaid State Office on Beneficiary's Buy-In Status; OMB 3220-0185.

Under Section 7(d) of the Railroad Retirement Act, the RRB administers the Medicare program for persons covered by the railroad retirement system. Under Section 1843 of the Social Security Act, states may enter into “buy-in agreements” with the Secretary of Health and Human Services for the purpose of enrolling certain groups of low-income individuals under the Medicare medical insurance (Part B) program and paying the premiums for their insurance coverage. Generally, these individuals are categorically needy under Medicaid and meet the eligibility requirements for Medicare Part B. States can also include in their buy-in agreements, individuals who are eligible for medical assistance only. The RRB uses Form RL-380-F, Report to State Medicaid Office, to obtain information needed to determine if certain railroad beneficiaries are entitled to receive Supplementary Medical Insurance program coverage under a state buy-in agreement in states in which they reside. Completion of Form RL-380-F is voluntary. One response is received from each respondent.

Previous Requests for Comments: The RRB has already published the initial 60-day notice (79 FR 676 on January 6, 2014) required by 44 U.S.C. 3506(c)(2). That request elicited no comments.

Information Collection Request (ICR)

Title: Report of Medicaid State Office on Beneficiary's Buy-In Status.

OMB Control Number: 3220-0185.

Forms submitted: RL-380-F.

Type of request: Extension without change of a currently approved collection.

Affected public: State, Local, and Tribal Governments.

Abstract: Under the Railroad Retirement Act, the Railroad Retirement Board administers the Medicare program for persons covered by the railroad retirement system. The collection obtains the information needed to determine if certain railroad beneficiaries are entitled to receive Supplemental Medical Insurance program coverage under a state buy-in agreement in states in which they reside.

Changes proposed: The RRB proposes no changes to Form RL-380-F.

The burden estimate for the ICR is as follows:

Form No. | Annual responses | Time (minutes) | Burden (hours)
RL-380-F | 600 | 10 | 100

Additional Information or Comments: Copies of the forms and supporting documents can be obtained from Dana Hickman at (312) 751-4981 or Dana.Hickman@RRB.GOV.

Comments regarding the information collection should be addressed to Charles Mierzwa, Railroad Retirement Board, 844 North Rush Street, Chicago, Illinois 60611-2092 or Charles.Mierzwa@RRB.GOV and to the OMB Desk Officer for the RRB, Fax: 202-395-6974, Email address: OIRA_Submission@omb.eop.gov.

Charles Mierzwa,
Chief of Information Resources Management.

[FR Doc. 2014-06500 Filed 3-24-14; 8:45 am]

BILLING CODE 7905-01-P